DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 20, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Risk Management Agency

Title: General Administrative Regulations; Subpart V-Submission of Policies, Provisions of Policies, Rates of Premium, and Non-Reinsured Supplemental Policies.

OMB Control Number: 0563-0064.

Summary of Collections: The Federal Crop Insurance Corporation (FCIC) is a wholly owned Government corporation created February 16, 1938, (7 U.S.C. 1501). The program was amended previously, but Public Law 96-365, dated September 26, 1980, provided for nationwide expansion of a comprehensive crop insurance program. The Federal Crop Insurance Act (Act), as amended in 1994, 1996, and 1998, further expanded the role of the crop insurance program to be the principal tool for risk management by producers of farm products. The Act further required that the crop insurance program operate on an actuarially sound basis. The Act allows any person to prepare a submission or propose to the FCIC Board of Directors (Board) a policy, provision of a policy, or rates of premium. The Act as amended June 20, 2000, by Public Law 106-224 provides for independent reviews of insurance products by persons experienced as actuaries and in underwriting. The Act, as amended by Public Law 110-246, dated June 18, 2008, provided the opportunity for the submission of a concept proposal to the Board for approval for advance payment of estimated research and development expenses. The Act, as amended by the 2014 Agricultural Act, dated February 7, 2014, requires FCIC to provide instructions for index-based weather insurance products, a consultation report for submissions of products for specialty crops; additional review and approval criteria for submissions; and additional advanced payment for research and development costs for concept proposals.

Need and Use of the Information: An applicant has the option to submit a concept proposal or a submission package for a crop insurance product and have it presented to the Board. The Board will review an applicant's submissions to determine, if the interests of agricultural producers and taxpayers are protected; the submission is actuarially appropriate; appropriate insurance principles are followed; the requirements of the Act are met; and that sound, reasonable and appropriate underwriting principals are followed. If the information is incomplete, the submission will be disapproved.

Description of Respondents: Business or other-for-profit.

Number of Respondents: 138.

Frequency of Responses: Recordkeeping: Reporting; Other.

Total Burden Hours: 30,921.

Levi S. Harrell,
Departmental Information Clearance Officer.

[FR Doc. 2024-11063 Filed 5-20-24; 8:45 am]

BILLING CODE 3410-08-P